DEPARTMENT OF DEFENSE

Office of the Secretary

Supplemental Record of Decision to Conduct Target Launches From Kodiak Launch Complex in Support of the Ground-Based Midcourse Defense Extended Test Range

AGENCIES: Department of Defense, Missile Defense Agency (MDA); Federal Aviation Administration (FAA), Office of the Associate Administrator for Commercial Space Transportation.

ACTION: Notice; Record of Decision (ROD).

SUMMARY: The MDA is issuing this Supplemental ROD to conduct target launches from the Kodiak Launch Complex (KLC) to support the Ground-Based Midcourse Defense (GMD) Extended Test Range (ETR).

FOR INFORMATION CONTACT: For further information on the GMD ETR Environmental Impact Statement (EIS) or this ROD contact Ms. Julia Hudson-Elliot, U.S. Army Space and Missile Defense Command, Attn: SMDC-EN-V, P.O. Box 1500, Huntsville, Alabama 35807-3801.

Public reading copies of the GMD ETR Final EIS, the ROD, and the supplemental ROD are available for review at the public libraries within the communities near proposed activities listed below, and on the MDA Internet site: http://www.acq.osd.mil./bmdo/.

• Anchorage Municipal Library, 3600 Denali St., Anchorage, AK 99503

• Kodiak City Library, 319 Lower Mill Bay Rd., Kodiak, AK 99615

• Mountain View Branch Library, 150 S. Bragaw St., Anchorage, AK 99508

SUPPLEMENTARY INFORMATION:

MDA Decision

This ROD selects the remaining portions of the activities proposed in Alternative 2 of the EIS regarding KLC. Those activities include the capability to conduct dual target launches from KLC.

Background

The MDA prepared the GMD ETR EIS to analyze potential impacts on the environment posed by proposed operationally realistic testing in the ETR.

On August 13, 2003, the MDA issued a ROD based on analysis contained in the GMD ETR EIS, Federal Register, August 26, 2003 (Volume 68, Number 165), Page 51251-56. The MDA Director considered the information contained within the GMD ETR EIS as well as cost, mission requirements, and other factors in deciding to establish a GMD extended test range capability, to provide for the construction and operation of a Sea-Based-Band Radar (SBX), and to select the location of the SBX Primary Support Base (PSB). That ROD selected portions of Alternative 2, as examined in the EIS, that included the capability to conduct single and dual launches of interceptor and target missiles from the Ronald Reagan Ballistic Missile Defense Test Site (RTS) and Vandenberg Air Force Base (AFB).

At the time when the ROD was signed, the FAA was contemplating re-licensing activities at KLC. Accordingly, MDA deferred the KLC portion of Alternative 2 to ensure FAA re-licensing posed no additional issues. On September 12, 2003, the FAA issued a new license for KLC activities. MDA is now issuing this supplemental ROD regarding the deferred KLC portion of Alternative 2.

NEPA Process

The GMD ETR EIS was prepared pursuant to the Council on Environmental Quality (CEQ) regulation implementing the National Environmental Policy Act (NEPA) (40 CFR parts 1500-1508), DoD Instruction 4715.9, and applicable service environmental regulations that implement these laws and regulations.

The Notice of Intent (NOI) to prepare an EIS for the GMD ETR was published in the Federal Register on March 28, 2003, initiating the public scoping process. Public scoping meetings were held from April to December 2002 in eight communities perceived to be affected by the proposed GMD ETR. The Notice of Availability (NOA) of the GMD ETR Draft EIS was published in the Federal Register on February 7, 2003. This initiated a public review and comment period for the Draft EIS. Seven public hearings were held in February and March 2003. Comments on the Draft EIS were considered in the preparation of the Final EIS. The NOA for the Final EIS was published in the Federal Register on July 15, 2003, initiating an additional 30-day review period. A ROD was signed on August 13, 2003, selecting Alternative 2 described in the EIS, while deferring a decision on the KLC portion of Alternative 2. The ROD is the culmination of the NEPA process.

Alternatives Considered

During the EIS process, alternatives to the proposed action were considered including the No-Action Alternative. Alternatives were organized around potential additional interceptor launch sites to complement the current test scenarios with interceptor launches from RTS. Interceptor missiles would be launched from KLC under Alternative 1, from Vandenberg AFB under Alternative 2, and from both locations under Alternative 3. For details of the alternatives considered, refer to Federal Register, August 26, 2003 (Volume 68, Number 165), pages 51251-51256.

Environmental Impacts of Alternatives

The GMD ETR EIS analyzed the environment in terms of 14 resource areas: Air quality, airspace, biological resources, cultural resources, geology and soils, hazardous materials and hazardous waste, health and safety, land use, noise, socioeconomic, transportation, utilities, visual and aesthetic resources, and water resources. Subsistence resources were also considered for potential sites in Alaska. Environmental Justice was addressed separately. Each resource area was discussed at each location as applicable. The potential for cumulative impacts was also evaluated in the EIS.

The impacts of the various alternatives are summarized in depth in Tables ES-1 A, ES1B, and Tables ES 2 through ES II in the Fianl ETR EIS (available on the MDA Internet site: http://www.acq.osd.mi./bmdo/). The following is a short summary of the potential impacts of the alternatives at KLC, including the NO-Action Alternative:

Kodiak Launch Complex

a. Air Quality. Under the No-Action Alternative, single target and commercial launches would continue. Under Alternative 2 (the Selected Alternative), a minimal increase in air emissions from dual target launches, support facilities construction, and operation of mobile telemetry will not affect the region's current attainment status. The results of modeling a dual Peacekeeper target launch to determine exhaust emissions of aluminum oxide, hydrogen chloride, and carbon monoxide show that the level of hydrogen chloride will be below the 1-hour Air Force standard, but will exceed the peak hydrogen chloride standard for a short duration. Other emissions were determined to be within National Ambient Air Quality Standards (NAAQS) and Alaska Ambient Air Quality Standards (AAQS). A single Peacekeeper target launch would be within NAAQS, Alaska AAQS, and U.S. Air Force standards. Significant air quality impacts due to target launches are not anticipated. Under Alternative 1, the impacts would be the same as Alternative 2 with the addition of GBI silo construction and GBI launches. The results of modeling to determine exhaust emissions of aluminum oxide, hydrogen chloride, and carbon monoxide show that concentrations produced by dual launches of a Ground-Based Interceptor would remain within NAAQS, Alaska AAQS, and U.S. Air Force standards Significant air quality impacts due to Ground-Based Interceptor (GBI) launches are not anticipated. Alternative 3 would have the same impacts as Alternative 1.

b. Biological Resources. Under the No-Action Alternative, temporary effects to vegetation from emissions, discoloration, and foliage loss and temporary, short-term startle effects from noise to wildlife and birds would be possible during testing. Although a remote possibility, individual animals close to the water's surface could be hit by debris. Under Alternative 2 (the Selected Alternative), loss of small amounts of mainly upland vegetation will occur due to construction. Fence lines will be altered to avoid impacts to wetlands. Testing impacts will be similar to those noted in the No Action Alternative. Mobile sensors necessary to support GMD ETR activities will be located on existing disturbed areas with minimal effect to biological resources. Under Alternative 1, the impacts would be the same as Alternative 2, plus additional acreage would be disturbed from GBI silo construction and the addition of dual GBI launches. Alternative 3 would have the same impacts as Alternative 1.

c. Hazardous Materials and Hazardous Waste. Under the No-Action Alternative, continued handling and use of limited quantities of hazardous and toxic materials related to pre-launch, launch, and post-launch activities would generate small quantities of hazardous waste. Under Alternative 2 (Selected Alternative), the single and dual target launch activities and support facilities construction will use small quantities of hazardous materials, which will result in the generation of some hazardous and non-hazardous waste that will be similar to current operations. All hazardous materials and waste will be handled in accordance with applicable state and federal regulations. No impact from short-term operation of mobile sensors at existing gravel pad areas are expected. Under Alternative 1, the impacts would be the same as Alternative 2, plus additional construction for IGBI silos and the addition of dual GBI launches. Hazardous materials and hazardous waste handling and potential impacts from the addition of GBI construction and launches would be similar to Alternative 2. Alternative 3 would have the similar impacts as Alternative 1.

d. Health and Safety. Under the No-Action Alternative, planning and execution of target and commercial launches would continue. Ground and Launch Hazard Areas, Notices to Airmen, Notices to Mariners, and program Safety plans would protect workers and the general public. Under Alternative 2 (Selected Alternative) planning and execution of single and dual target launches will include establishing Ground and Launch Hazard Areas, issuing Notices to Airmen and Notices to Mariners, and adherences to program Safety plans. These actions will be in compliance with federal, state, and local health and safety requirements and regulations, as well as Department of Defense and KLC Safety Policy and will result in no significant impacts to health and safety. Due to the same precautions taken above, Alternative 1 and 3 would also result in no significant impacts to health and safety.

e. Land Use. Under the No-Action Alternative, publication of availability of KLC's beaches and coastline would continue. Under Alternative 2 (Selected Alternative), minimal impacts will occur as a result of site preparation and new construction. This activity will limit the use of a small portion of the overall land available for livestock grazing. Only temporary closures during the transportation of missile components to the launch facilities and up to a full day closure on launch days will occur for the Pasagshak Point Road at the KLC site boundary. Under Alternative 1, the proposed activities would result in impacts similar to Alternative 2, and would not significantly impact the availability of recreational opportunities. Impacts under Alternative 3 would be the same as Alternative 1.

f. Water Resources. Under the No-Action Alternative, missile launches would continue to disperse exhaust emission products over a large area. These emissions would not cause a significant water quality impact, and water quality monitoring would continue on an as-needed basis. Under Alternative 2 (Selected Alternative), there is a minor potential for short-term increase in erosion and turbidity of surface waters during construction. Missile launches will disperse exhaust emission products over a large area. These emissions will not cause a significant water quality impact. Water quality monitoring will continue on an as-needed basis. Under Alternative 1, the impacts would be similar as Alternative 2, plus additional construction for GBI silos and the addition of dual GBI launches. Potential impacts from the addition of GBI construction and launches would be similar to Alternative 2. Alternative 3 would have the similar impacts as Alternative 1.

F. Mitigation Measures and Monitoring

The applicable mitigation measures specified for each of the sites selected will be implemented as part of the GMD ETR action. A Mitigation Monitoring Plan has been developed to assist in tracking and implementing these mitigation measures. With the implementation of the mitigation measures, all practicable means to avoid or minimize environmental harm from establishing the GMD ETR considered in this ROD have adopted.

G. Environmentally Preferred Alternative

The environmentally preferred alternative in the EIS is the No-Action Alternative (not proceeding with the GMD ETR), since there would be no new construction or operation of GMD elements at any of the potential sites. Continuation of current site operations at these locations would result in few additional environmental impacts.

Among the three alternatives in the EIS, Alternative 2 is the environmentally preferred action to establish and operate the GMD ETR. The activities proposed in Alternative 2 for KLC will require less construction and ground disturbance than the other alternatives.

Conclusion

In accordance with NEPA, Lieutenant General Kadish considered the information contained within the GMD ETR EIS as well as cost, mission requirements and other factors in deciding to establish and extended GMD test range capability at KLC.

He previously chose Alternative 2, and deferred the portion of Alternative 2 regarding activities at KLC until the FAA re-licensing activity occurred. After his review of this action, he is satisfied that all concerns have been addressed, and is accordingly issuing this supplemental ROD regarding KLC.

Dated: December 3, 2003.
L.M. Bynum,
Alternate OSD Federal Register Liaison Officer, Department of Defense.

[FR Doc. 03-30395 Filed 12-8-03; 8:45 am]

BILLING CODE 5001-06-M